Title 3—

The President

Proclamation 9526 of October 18, 2016

Minority Enterprise Development Week, 2016

By the President of the United States of America

A Proclamation

Since our earliest days, entrepreneurship has embodied the very promise of our Nation, reaffirming the notion that in a place of such limitless potential, Americans can forge a prosperous future and build a better life for themselves and their families. Women and men of every faith, background, and race have channeled their talents and ingenuity into harnessing the spirit of innovation that has long been the hallmark of our people. And as an essential part of our country's story, minority-owned enterprises have helped spur this progress. During Minority Enterprise Development Week, we reflect on the significant ways they have helped put our economy on the path to success, and we recommit to empowering every hardworking American to write our next great chapters.

Minority-owned firms employ millions of workers and generate more than $1 trillion in economic output, revitalizing our communities and driving our growth. That is why my Administration is helping entrepreneurs of all backgrounds and small businesses across our country get the resources they need to get off the ground. Through the Minority Business Development Agency, we have led efforts to promote growth and competitiveness. We are helping streamline the process of starting a company and investing in entrepreneurship training and skill building for more Americans. Through www.Business.USA.gov, we are helping more enterprises get information about Federal contracts, and we are connecting them to critical resources to help develop and grow a business. In today's global economy, minority-owned businesses are essential to our country's success. They are twice as likely as other businesses to export their goods and services, and I am working to encourage entrepreneurship and innovation through a smart trade agenda that will allow us to sell more goods, boost economic competitiveness, and help more of our entrepreneurs thrive.

Our Nation has always drawn strength from the diversity of our people, and no matter who you are, what you look like, or where you come from, America is a place where everyone deserves a chance to get ahead. This week, we must continue working to support minority enterprises and all entrepreneurs—and ensure that by expanding access to the networks, capital, and opportunities required to build a business, everybody can have a fair shot at reaching their piece of the American dream.

NOW, THEREFORE, I, BARACK OBAMA, President of the United States of America, by virtue of the authority vested in me by the Constitution and the laws of the United States, do hereby proclaim October 23 through October 29, 2016, as Minority Enterprise Development Week. I call upon all Americans to celebrate this week with appropriate programs, ceremonies, and activities to recognize the many contributions of our Nation's minority enterprises.

IN WITNESS WHEREOF, I have hereunto set my hand this eighteenth day of October, in the year of our Lord two thousand sixteen, and of the Independence of the United States of America the two hundred and forty-first.

[FR Doc. 2016-25739

Filed 10-20-16; 11:15 am]

Billing code 3295-F7-P